DEPARTMENT OF THE TREASURY

Internal Revenue Service

26 CFR Part 1

[TD 9774]

RIN 1545-BM04

Method of Accounting for Gains and Losses on Shares in Money Market Funds; Broker Returns With Respect to Sales of Shares in Money Market Funds; Correction

AGENCY: Internal Revenue Service (IRS), Treasury.

ACTION: Final regulations; correction.

SUMMARY: This document contains a correction to final regulations (TD 9774) that were published in the Federal Register on July 8, 2016 (81 FR 44508). The final regulations provide a simplified method of accounting for gains and losses on shares in money market funds (MMFs). The final regulations also provide guidance regarding information reporting requirements for shares in MMFs.

DATES: This correction is effective on September 23, 2016 and applicable on July 8, 2016.

FOR FURTHER INFORMATION CONTACT: Grace Cho at (202) 317-6895 (not a toll free number).

SUPPLEMENTARY INFORMATION:

Background

The final regulations (TD 9774) that are the subject of this correction are under sections 446, and 6045 of the Internal Revenue Code.

Need for Correction

As published, the final regulations (TD 9774) contains an error that may prove to be misleading and is in need of clarification.

Correction of Publication

Accordingly, the final regulations (TD 9774), that are the subject of FR Doc. 2016-16149, is corrected as follows:

1. On page 44512, in the preamble, the first column, under the heading “7. Accounting Method Changes”, the ninth line of the second full paragraph, the language “Proc. 2016-39 (2016-30 IRB), which” is corrected to read “Proc. 2016-39 (2016-30 IRB 164), which”.

Martin V. Franks,
Chief, Publications and Regulations Branch, Legal Processing Division, Associate Chief Counsel (Procedure and Administration).

[FR Doc. 2016-22950 Filed 9-22-16; 8:45 am]

BILLING CODE 4830-01-P